DEPARTMENT OF HEALTH AND HUMAN SERVICES

Centers for Disease Control and Prevention

[30Day-18-0822]

Agency Forms Undergoing Paperwork Reduction Act Review

In accordance with the Paperwork Reduction Act of 1995, the Centers for Disease Control and Prevention (CDC) has submitted the information collection request titled The National Intimate Partner and Sexual Violence Survey (NISVS) to the Office of Management and Budget (OMB) for review and approval. CDC previously published a “Proposed Data Collection Submitted for Public Comment and Recommendations” notice on September 20, 2017 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

The National Intimate Partner and Sexual Violence Survey (NISVS) (OMB Control Number 0920-0822, expiration date 7/30/2018)—Revision—National Center for Injury Prevention and Control (NCIPC), Centers for Disease Control and Prevention (CDC).

Background and Brief Description

This is a revision request for the currently approved National Intimate Partner and Sexual Violence Survey data collection project. Approval is requested for three years.

In 2010, NISVS reported that approximately 6.9 million women and 5.6 million men experienced rape, physical violence and/or stalking by an intimate partner within the last year. The health care costs of intimate partner violence (IPV) exceed $5.8 billion each year, nearly $3.9 billion of which is for direct medical and mental health care services.

In order to address this important public health problem, CDC implemented, beginning in 2010, the National Intimate Partner and Sexual Violence Surveillance System that produces national and state level estimates of IPV, Sexual Violence (SV) and stalking on an annual basis.

Data collection in the 2018-2019 cycle is slated to begin in mid-March 2018. Data will be collected in two periods. The first collection will be March 2018 through mid-September 2018 and the second collection will be mid-September 2018 through mid-March 2019.

The current request for revision is to conduct the 2018-2019 data collection. This data collection will use the version of the survey used for the 2016-2017 data collection period revised to reduce redundancy, and remove questions for active duty women and men in the military and wives of active duty men, as they will not be a part of the next wave of data collection. The request will allow the continuation of data collection among non-institutionalized adult men and women aged 18 years or older in the United States assessing lifetime and past 12 month experiences of IPV, SV and stalking. The current request also includes modifying data collection protocols to improve response rate and reduce non-response bias in response to recommendations provided by a methodology workgroup convened at the request of the Office of Management and Budget (OMB).

To comply with OMB's terms of clearance for 2014 and 2016, CDC collaborated with Bureau of Justice Statistics in convening a workgroup to obtain expert feedback and input on how to enhance the NISVS survey methodology. Workgroup participants provided guidance on how to improve the system's survey design (e.g., methods, sampling frame, recruitment, mode of administration, etc.) with the goals of increasing response rates, reducing non-response bias, and maximizing the collaborative opportunities across Federal surveys for covering populations of interest. Four meetings of the workgroup, which included a representative from OMB and a representative from CDC's Board of Scientific Counselors, began in February of 2017 and were completed in July of 2017. Recommendations from the workgroup, provided to CDC in a written report, have been used to inform both the 2018-2019 efforts as well as plans for a substantial re-design of the survey design and administration after 2019. Additionally, the primary recommendations provided by the workgroup along with CDC's proposed activities to address the recommendations were presented to the National Center for Injury Prevention and Control's Board of Scientific Counselors (BSC) in September 2017. The BSC provided additional ideas for opportunities to learn about other Federal agencies' advances and experiments related to survey methods, as well as ideas for collaboration across Federal agencies, which CDC staff are currently pursuing.

NCIPC has also worked to improve the performance of the NISVS data collection tool (without altering its core content on IPV, SV, and stalking prevalence), decrease the level of burden on respondents, and reduce the time required to complete data processing, validation, and packaging for public release. In addition, the inclusion of questions in the NISVS data collection tool, about child exposure to physical or psychological IPV; normative beliefs about IPV, SV, and bystander intervention; and barriers to bystander intervention, further aligns NISVS surveillance approaches with stakeholder needs and demonstrates responsiveness to their expressed recommendations for surveillance improvement. The survey will be conducted among English or Spanish speaking male and female adults (18 years and older) living in the United States. The estimated annual burden hours requested are 22,700. There is a reduction of 4,406 hours from the previously approved hours of 27,106. There are no extra costs to respondents.

Estimated Annualized Burden Hours
Type of respondents | Form name | Number of respondents | Number of responses per respondent | Average burden per response (in hours)
Non-Participating Household (Screened) | NISVS Survey Instrument. First section non-participating | 204,000 | 1 | 3/60
Eligible Household (Completes Survey) | NISVS Survey Instrument. Section for participating | 30,000 | 1 | 25/60

Leroy A. Richardson,
Chief, Information Collection Review Office, Office of Scientific Integrity, Office of the Associate Director for Science, Office of the Director, Centers for Disease Control and Prevention.

[FR Doc. 2017-27687 Filed 12-22-17; 8:45 am]

BILLING CODE 4163-18-P